CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its proposed implementation of AmeriCorps National Civilian Community Corp's NCCC Sponsor Survey. This survey was developed to support NCCC performance measurement for use in program development, funding, and evaluation. The survey instrument will be completed by NCCC project sponsors following completion of each NCCC project. Completion of this information collection is not required to be considered for or obtain grant funding support from AmeriCorps NCCC.

Copies of the information collection request can be obtained by contacting the office listed in the addresses section of this notice.

DATES: Written comments must be submitted to the individual and office listed in the ADDRESSES section by January 24, 2011.

ADDRESSES: You may submit comments, identified by the title of the information collection activity, by any of the following methods:

(1) By mail sent to: Corporation for National and Community Service National Civilian Community Corps; Attention Colleen Clay, Assistant Director Projects and Partnerships, Room 9305; 1201 New York Avenue, NW., Washington, DC, 20525.

(2) By hand delivery or by courier to the Corporation's mailroom at Room 8100 at the mail address given in paragraph (1) above, between 9 a.m. and 4 p.m. Monday through Friday, except Federal holidays.

(3) By fax to: (202) 606-3462, Attention: Colleen Clay, Assistant Director Projects and Partnerships.

(4) Electronically through http://www.regulations.gov. Individuals who use a telecommunications device for the deaf (TTY-TDD) may call (202) 606-3472 between 8:30 a.m. and 5 p.m. eastern time, Monday through Friday.

FOR FURTHER INFORMATION CONTACT: Colleen Clay, (202) 606-7561, or by e-mail at cclay@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

This NCCC Sponsor Survey was developed to evaluate the program's performance impact on sponsoring organizations and communities. Specifically, NCCC has been asked to develop a set of measures that capture the immediate and long-term outcomes of the NCCC program on the organizations and communities it serves. In order to achieve this goal, NCCC has developed a set of five performance measurement instruments corresponding to the most common service projects requested by the organizations that sponsor NCCC teams in their community. One of these measures, Successful Service Intervention, is universal to all projects, and measures the success of the NCCC team in completing the stated project goals of the project sponsor. The other four measures correspond to specific activities with volunteers or in disaster, housing, or environmental activities. The surveys will be administered electronically to all project sponsors after each project round is completed.

Current Action

This is a new information collection request. The NCCC Sponsor Survey consists of a menu of five performance surveys of approximately 10 questions each. All sponsors will receive their survey as a single instrument. The individual survey will be generated based on the project type and applicability of each survey to the specific project. Each sponsor survey will begin with the Successful Service Intervention survey, and include one or more of the other four surveys depending on project type. It is estimated that an average survey will consist of two to three of the survey sections. No survey will include all five sections.

Type of Review: New.

Agency: Corporation for National and Community Service.

Title: NCCC Sponsor Survey.

OMB Number: None.

Agency Number: None.

Affected Public: The NCCC sponsor survey will be administered to the project sponsor for any NCCC service project. These sponsors apply to receive a 10-person NCCC team for a period of six-eight weeks to implement local service projects. There are approximately 165 projects in each of four project rounds per year. The project sponsors are uniquely able to provide the information sought in the NCCC Sponsor Survey.

Total Respondents: Based on the number of projects completed last fiscal year, NCCC expects to administer 660 surveys each fiscal year. These may not be unique responders as many sponsors receive teams on a rotating basis and thus may complete the survey more than once per year. Assuming the distribution of project types remains constant, the number of survey sections completed by a given sponsor will be distributed as follows: One section—54 respondents; two sections—228 respondents; three sections—270 respondents; four sections—108 respondents.

Frequency: Quarterly distribution. Each sponsor will complete only one survey per project.

Average Time per Response: One section—8 minutes.

Two sections—15 minutes.

Three sections—22 minutes.

Four sections—30 minutes.

Estimated Total Burden Hours: 217 hours.

Total Burden Cost (capital/startup): None.

Total Burden Cost (operating/maintenance): None.

Comments submitted in response to this notice will be summarized and/or included in the request for Office of Management and Budget approval of the information collection request; they will also become a matter of public record.

Dated: November 17, 2010.
Charles Davenport,
Director, Projects and Partnerships, National Civilian Community Corps.

[FR Doc. 2010-29465 Filed 11-22-10; 8:45 am]

BILLING CODE 6050-$$-P